INTERNATIONAL TRADE COMMISSION

[USITC SE-04-001]

Sunshine Act Meeting

AGENCY: United States International Trade Commission.

Time and Date: January 14, 2004 at 11 a.m.

Place: Room 101, 500 E Street SW., Washington, DC 20436, Telephone: (202) 205-2000.

Status: Open to the public.

Matters to be Considered:

1. Agenda for future meetings: none.

2. Minutes.

3. Ratification List.

4. Inv. No. 731-TA-1062 (Preliminary) (Kosher Chicken from Canada)—briefing and vote. (The Commission is currently scheduled to transmit its determination to the Secretary of Commerce on or before January 15, 2004; Commissioners' opinions are currently scheduled to be transmitted to the Secretary of Commerce on or before January 23, 2004.)

5. Outstanding action jackets: none.

In accordance with Commission policy, subject matter listed above, not disposed of at the scheduled meeting, may be carried over to the agenda of the following meeting.

By order of the Commission.
Issued: January 6, 2004.
Marilyn R. Abbott,
Secretary to the Commission.

[FR Doc. 04-444 Filed 1-6-04; 11:52 am]

BILLING CODE 7020-02-P